DEPARTMENT OF THE TREASURY

Office of Foreign Assets Control

Proposed Collection; Comment Request for Request for A Specific License to Visit An Immediate Family Member In Cuba

AGENCY: Office of Foreign Assets Control, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Foreign Assets Control (“OFAC”) within the Department of the Treasury is soliciting comments concerning OFAC's “Request for a Specific License to Visit an Immediate Family Member in Cuba who is a National of Cuba once in a three year period” Application Form TD-F 90-22 60 and TD-F 90-22 60 (SP).

DATES: Written comments should be received on or before September 2, 2008 to be assured of consideration.

ADDRESSES: Direct all written comments to Rochelle E. Stern, Assistant Director, Policy, Office of Foreign Assets Control, Department of the Treasury, 1500 Pennsylvania Avenue, NW., Annex—2d Floor, Washington, DC 20220.

FOR FURTHER INFORMATION CONTACT: Requests for additional information about the filings or procedures should be directed to Rochelle E. Stern, Assistant Director, Policy, Office of Foreign Assets Control, or Sean Thornton, Chief Counsel (Foreign Assets Control), Department of the Treasury, 1500 Pennsylvania Avenue, NW., 1500 Pennsylvania Avenue, Annex—2d Floor, Washington, DC 20220.

SUPPLEMENTARY INFORMATION: Title: OFAC Form “Request for a Specific License to Visit an Immediate Family Member in Cuba who is a National of Cuba once in a three year period.”

Agency Form Number: TD-F 90-22 60 and TD-F 90-22 60 (SP).

OMB Number: 1505-0202.

Abstract: OFAC issues specific licenses authorizing travel-related transactions incident to visits to members of a person's immediate family who are nationals of Cuba once per three-year period and for no more than 14 days. In order to ensure that the one-trip-per-three-year-period and other requirements are not violated, OFAC uses forms TD-F 90-22 60 and TD-F 90-22 60 (SP) to collect information on the traveler and the family members in Cuba whom the traveler is visiting. The form is provided in English and Spanish to accommodate those persons for whom Spanish is the primary language. The use of the form provides a standardized method of information collection, ensures uniform and consistent compliance, and allows OFAC to maintain detailed records that enable OFAC to verify that travelers are not exceeding the restriction of the frequency of visits to Cuba and that they are only visiting members of their immediate family.

Current Actions: There are no changes being made to the form at this time.

Type of Review: Extension of a currently approved collection.

Affected Public: Individuals or households.

Estimated Number of Respondents: 60,000.

Estimated Time Per Respondent: 10 minutes.

Estimated Total Annual Burden Hours: 10,000.

The following paragraph applies to all of the collections of information covered by this notice:

An agency may not conduct or sponsor, and a person is not required to respond to, a collection of information unless the collection of information displays a valid Office of Management and Budget (“OMB”) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: June 25, 2008.
Adam J. Szubin,
Director, Office of Foreign Assets Control.

[FR Doc. E8-14816 Filed 6-30-08; 8:45 am]

BILLING CODE 4811-45-P